DEPARTMENT OF JUSTICE

Drug Enforcement Administration

21 CFR Part 1308

[Docket No. DEA-1442]

Schedules of Controlled Substances: Temporary Placement of 2-Fluorodeschloroketamine in Schedule I

AGENCY: Drug Enforcement Administration, Department of Justice.

ACTION: Proposed amendment; notice of intent.

SUMMARY: The Administrator of the Drug Enforcement Administration is issuing this notice of intent to publish a temporary order to schedule 2-(2-fluorophenyl)-2-(methylamino)cyclohexan-1-one (commonly known as 2-fluorodeschloroketamine or 2-FDCK), including its salts, isomers, and salts of isomers whenever the existence of such salts, isomers, and salts of isomers is possible within the specific chemical designation, in schedule I of the Controlled Substances Act. When it is issued, the temporary scheduling order will impose the regulatory controls and administrative, civil, and criminal sanctions applicable to schedule I controlled substances on persons who handle (manufacture, distribute, reverse distribute, import, export, engage in research, conduct instructional activities or chemical analysis with, or possess) or propose to handle 2-fluorodeschloroketamine.

DATES: January 20, 2026.

ADDRESSES: 8701 Morrissette Drive, Springfield, Virginia 22152.

FOR FURTHER INFORMATION CONTACT: Terrence L. Boos, Drug and Chemical Evaluation Section, Diversion Control Division, Drug Enforcement Administration; Mailing Address: 8701 Morrissette Drive, Springfield, Virginia 22152; Telephone: (571) 362-3249.

SUPPLEMENTARY INFORMATION: The notice of intent contained in this document is issued pursuant to the temporary scheduling provisions of 21 U.S.C. 811(h). The Drug Enforcement Administration (DEA) intends to issue a temporary scheduling order ¹ (in the form of a temporary amendment) to add 2-fluorodeschloroketamine, including its salts, isomers, and salts of isomers whenever the existence of such salts, isomers, and salts of isomers is possible within the specific chemical designation, to schedule I under the Controlled Substances Act (CSA). The temporary scheduling order will be published in the Federal Register on or after February 19, 2026.

¹ Though DEA has used the term “final order” with respect to temporary scheduling orders in the past, this notice of intent adheres to the statutory language of 21 U.S.C. 811(h), which refers to a “temporary scheduling order.” No substantive change is intended.

Legal Authority

The CSA provides the Attorney General with the authority to temporarily place a substance in schedule I of the CSA for two years without regard to the requirements of 21 U.S.C. 811(b), if she finds that such action is necessary to avoid an imminent hazard to public safety.² In addition, if proceedings to control a substance are initiated under 21 U.S.C. 811(a)(1) while the substance is temporarily controlled under section 811(h), the Attorney General may extend the temporary scheduling for up to one year.³

² 21 U.S.C. 811(h)(1).

³ 21 U.S.C. 811(h)(2).

Where the necessary findings are made, a substance may be temporarily scheduled if it is not listed in any other schedule under 21 U.S.C. 812, or if there is no exemption or approval in effect for the substance under section 505 of the Federal Food, Drug, and Cosmetic Act (FD&C Act), 21 U.S.C. 355.⁴

⁴ 21 U.S.C. 811(h)(1); 21 CFR part 1308.

In addition, the United States is a party to the 1971 United Nations Convention on Psychotropic Substances (1971 Convention), Feb. 21, 1971, 32 U.S.T. 543, 1019 U.N.T.S. 175, as amended. Procedures respecting changes in drug schedules under the 1971 Convention are set forth in 21 U.S.C. 811(d)(2)-(4). When the United States receives notification of a scheduling decision pursuant to Article 2 of the 1971 Convention indicating that a drug or other substance has been added to a schedule specified in the notification, the Secretary of the Department of Health and Human Services (HHS),⁵ after consultation with the Attorney General, shall first determine whether existing legal controls under subchapter I of the CSA and the FD&C Act meet the requirements of the schedule specified in the notification with respect to the specific drug or substance. In the event that the Secretary did not consult with the Attorney General, and the Attorney General did not issue a temporary order, as provided under 21 U.S.C. 811(d)(4), the procedures for permanent scheduling set forth in 21 U.S.C. 811(a) and (b) control. The Attorney General has delegated scheduling authority under 21 U.S.C. 811 to the Administrator of DEA (Administrator).⁶

⁵ As discussed in a memorandum of understanding entered into by the U.S. Food and Drug Administration (FDA) and the National Institute on Drug Abuse (NIDA), FDA acts as the lead agency within HHS in carrying out the Secretary's scheduling responsibilities under the CSA, with the concurrence of NIDA. Memorandum of Understanding with the National Institute on Drug Abuse, 50 FR 9518 (Mar. 8, 1985). The Secretary has delegated to the Assistant Secretary for Health of HHS the authority to make domestic drug scheduling recommendations. Comprehensive Drug Abuse Prevention and Control Act of 1970, Public Law 91-513, As Amended; Delegation of Authority, 58 FR 35460 (July 1, 1993).

⁶ 28 CFR 0.100.

Background

On June 6, 2024, the Secretariat of the United Nations advised the Secretary of State of the United States that the Commission on Narcotic Drugs (CND), during its 67th session on March 19, 2024, voted to place 2-fluorodeschloroketamine in Schedule II of the Convention on Psychotropic Substances of 1971 (CND Decision 67/4). As a signatory to this international treaty, the United States is required to place appropriate controls within the CSA on 2-fluorodeschloroketamine to meet the requirements of the treaty. To meet the minimum requirements of this treaty and to confront this emerging substance, DEA intends to temporarily place 2-fluorodeschloroketamine in schedule I of the CSA.

The CSA requires the Administrator to notify the Secretary of HHS of this intent to issue a temporary scheduling order.⁷ By letter dated November 1, 2024 (the November 1 DEA letter), the then-Administrator transmitted the required notice to place 2-fluorodeschloroketamine in schedule I on a temporary basis to the then-Assistant Secretary for Health of HHS (then-Assistant Secretary).⁸ By letter dated November 8, 2024 (the November 8 HHS letter), the then-Assistant Secretary responded to this notice and advised that based on a review by the Food and Drug Administration (FDA), there were currently no investigational new drug applications (IND) or approved new drug applications (NDA) for 2-fluorodeschloroketamine. The then-Assistant Secretary also stated that HHS had no objection to the temporary placement of this substance in schedule I of the CSA; however, due to the change in HHS's leadership after the November 8 HHS letter, DEA requested an updated response from HHS, by letter dated May 28, 2025 (the May 28 DEA letter). By letter dated June 11, 2025 (the June 11 HHS letter), the Acting Assistant Secretary responded that, based on an updated review by FDA, there are currently no NDAs or INDs for 2-fluorodeschloroketamine. Therefore, HHS had no objections to the temporary placement of 2-fluorodeschloroketamine in schedule I. 2-Fluorodeschloroketamine currently is not listed in any schedule under the CSA.

⁷ 21 U.S.C. 811(h)(4).

⁸ The Secretary of HHS has delegated to the Assistant Secretary for Health of HHS the authority to make domestic drug scheduling recommendations. Comprehensive Drug Abuse Prevention and Control Act of 1970, Public Law 91-513, As Amended; Delegation of Authority, 58 FR 35460 (July 1, 1993).

To find that placing a substance temporarily in schedule I of the CSA is necessary to avoid an imminent hazard to public safety, the Administrator must consider three of the eight factors set forth in 21 U.S.C. 811(c)(4)-(6): the substance's history and current pattern of abuse; the scope, duration and significance of abuse; and what, if any, risk there is to public health.⁹ This consideration includes any information indicating actual abuse, diversion from legitimate channels, and clandestine importation, manufacture, or distribution of this substance.¹⁰

⁹ 21 U.S.C. 811(h)(3).

¹⁰ Id.

Substances meeting the statutory requirements for temporary scheduling may only be placed in schedule I.¹¹ Substances in schedule I have high potential for abuse, no currently accepted medical use in treatment in the United States,¹² and a lack of accepted safety for use under medical supervision.¹³

¹¹ 21 U.S.C. 811(h)(1).

¹² When finding schedule I placement on a temporary basis is necessary to avoid imminent hazard to the public, 21 U.S.C. 811(h) does not require DEA to consider whether the substance has a currently accepted medical use in treatment in the United States. Nonetheless, there is no evidence suggesting that 2-fluorodeschloroketamine has a currently accepted medical use in treatment in the United States. First, DEA looks to whether the drug or substance has FDA approval. When no FDA approval exists, DEA has traditionally applied a five-part test to determine whether a drug or substances has a currently accepted medical use: (1) the drug's chemistry must be known and reproducible; (2) there must be adequate safety studies; (3) there must be adequate and well-controlled studies proving efficacy; (4) the drug must be accepted by qualified experts; and (5) the scientific evidence must be widely available. Marijuana Scheduling Petition; Denial of Petition; Remand, 57 FR 10499 (Mar. 26, 1992), pet. for rev. denied, Alliance for Cannabis Therapeutics v. Drug Enforcement Admin., 15 F.3d 1131, 1135 (D.C. Cir. 1994). DEA applied the traditional five-part test and concluded the test was not satisfied. In a recent published letter in a different context, HHS applied an additional two-part test to determine currently accepted medical use for substances that do not satisfy the five-part test: (1) whether there exists widespread, current experience with medical use of the substance by licensed health care providers operating in accordance with implemented jurisdiction-authorized programs, where medical use is recognized by entities that regulate the practice of medicine, and, if so, (2) whether there exists some credible scientific support for at least one of the medical conditions for which part (1) is satisfied. On April 11, 2024, the Department of Justice's Office of Legal Counsel (OLC) issued an opinion, which, among other things, concluded that HHS's two-part test would be sufficient to establish that a drug has a currently accepted medical use. Office of Legal Counsel, Memorandum for Merrick B. Garland Attorney General Re: Questions Related to the Potential Rescheduling of Marijuana at 3 (April 11, 2024). For purposes of this notice of intent, there is no evidence that health care providers have widespread experience with medical use of 2-fluorodeschloroketamine or that the use of 2-fluorodeschloroketamine is recognized by entities that regulate the practice of medicine, so the two-part test also is not satisfied. In the November 8 HHS letter, HHS advised DEA that there were currently no approved new drug applications or investigational new drug applications for 2-fluorodeschloroketamine. Additionally, HHS communicated no objections to the temporary placement of 2-fluorodeschloroketamine in schedule I of the CSA. In the July 11 HHS letter, HHS reaffirmed its position and advised DEA that there are currently no approved new drug applications or investigational new drug applications for 2-fluorodeschloroketamine. Additionally, HHS reaffirmed that it had no objections to the temporary placement of 2-fluorodeschloroketamine in schedule I of the CSA.

¹³ 21 U.S.C. 812(b)(1).

2-Fluorodeschloroketamine

The availability of new psychoactive substances on the illicit drug market continues to pose an imminent hazard to public safety. Adverse health effects associated with the abuse of such substances and their increased popularity have become a serious concern in recent years. Such substances include 2-fluorodeschloroketamine, which has been identified on the illicit drug market in the United States and worldwide.

The positive identification of 2-fluorodeschloroketamine in law enforcement seizures and toxicology reports poses a serious concern to public safety. 2-Fluorodeschloroketamine has been detected in 52 drug seizures across 12 states since 2018, and this substance has been detected in biological samples from 3 overdose cases in the United States.

Data obtained from preclinical pharmacology studies show that 2-fluorodeschloroketamine has a pharmacological profile similar to that of other arylcyclohexylamines, such as phencyclidine (PCP) and ketamine, which are schedule II and III controlled substances, respectively. Due to these pharmacological similarities, the use of 2-fluorodeschloroketamine presents a high risk of abuse and may negatively affect users and their communities. These pharmacological similarities also lead to similar clinical presentations of intoxication that range from hallucinogenic-like adverse effects to death. Thus, 2-fluorodeschloroketamine poses an imminent hazard to public safety.

Available data and information for 2-fluorodeschloroketamine, summarized below, indicate that this substance has a high potential for abuse, no currently accepted medical use in treatment in the United States, and a lack of accepted safety for use under medical supervision. DEA's three-factor analysis is available in its entirety under “Supporting and Related Material” of the public docket for this action at www.regulations.gov under Docket Number DEA-1442.

Factor 4. History and Current Pattern of Abuse

2-Fluorodeschloroketamine belongs to a chemical structural class of substances known as arylcyclohexylamines that includes dissociative anesthetics PCP (a schedule II substance) and ketamine (a schedule III substance). Details on 2-fluorodeschloroketamine synthesis have been available since 2014, long after its first reported synthesis without details in 1987. In 2015, online forum users began to discuss the psychoactive properties of 2-fluorodeschloroketamine and commonly compared 2-fluorodeschloroketamine to ketamine. Unlike ketamine, however, 2-fluorodeschloroketamine has no currently approved medical use. In the November 8 HHS letter to DEA, the then-Assistant Secretary stated that there were no FDA-approved NDAs or INDs for 2-fluorodeschloroketamine. In the June 11 HHS letter to DEA, the Acting Assistant Secretary reaffirmed that there were no FDA-approved NDAs or INDs for 2-fluorodeschloroketamine.

2-Fluorodeschloroketamine emerged on the illicit drug market similarly to other dissociative anesthetics that are trafficked for their psychoactive effects; this is evidenced by the identification of this substance in forensic drug exhibits and toxicology samples. Based on available data from user reports and law enforcement seizures, individuals typically purchase 2-fluorodeschloroketamine as powder or crystals, which are then crushed and placed into capsules or solubilized. Common routes of administration include oral consumption or insufflation, while less commonly mentioned routes include intramuscular injection, sublingual administration, and rectal insertion. In addition, scientific literature and toxicological reports indicate that 2-fluorodeschloroketamine is likely co-ingested with other substances, whether as separate products or a single product containing multiple licit and illicit substances. In toxicological reports, substances co-identified with 2-fluorodeschloroketamine included, but were not limited to, 2-fluoromethamphetamine (schedule I); 3,4-methylenedioxyamphetamine (MDA; schedule I); 3,4-methylenedioxymethamphetamine (MDMA; schedule I); 4-methoxy PCP; ADB-BUTINACA (schedule I); ketamine (schedule III); fentanyl (schedule II); mitragynine; morphine (schedule II); and various prescription drugs.

Factor 5. Scope, Duration, and Significance of Abuse

Users on online forums began to discuss 2-fluorodeschloroketamine and its consumption in 2015. In 2016, government authorities in Spain first documented the appearance of 2-fluorodeschloroketamine on the illicit drug market, and this substance has since been detected in numerous countries, such as Australia, Austria, Canada, China, Denmark, Finland, France, Italy, the Netherlands, the United Kingdom, and the United States. Some of these countries actively regulated 2-fluorodeschloroketamine under psychoactive drug control regulations prior to its international control in 2024.

Law enforcement data indicate that the presence of 2-fluorodeschloroketamine is widespread in the United States. Since 2018, DEA's National Forensic Laboratory Information System (NFLIS-Drug) ¹⁴ registered a total of 52 reports, across 12 states, pertaining to the trafficking, distribution, and abuse of 2-fluorodeschloroketamine.¹⁵ These states include California, Connecticut, Florida, Illinois, Louisiana, Michigan, New Jersey, New York, Ohio, Pennsylvania, Virginia, and West Virginia.

¹⁴ NFLIS-Drug represents an important resource in monitoring illicit drug trafficking, including the diversion of legally manufactured pharmaceuticals into illegal markets. NFLIS-Drug is a comprehensive information system that includes data from forensic laboratories that handle more than 96 percent of an estimated 1 million distinct annual federal, state, and local drug analysis cases. NFLIS-Drug includes drug chemistry results from completed analyses only. While NFLIS-Drug data are not direct evidence of abuse, these can lead to an inference that a drug has been diverted and abused. See Schedules of Controlled Substances: Placement of Carisoprodol Into Schedule IV, 76 FR 77330, 77332 (Dec. 12, 2011).

¹⁵ NFLIS-Drug data were queried on December 11, 2025. NFLIS-Drug reports are still pending for 2025 due to normal lag time.

Factor 6. What, if Any, Risk There Is to Public Health

2-Fluorodeschloroketamine is a potent arylcyclohexylamine, and evidence suggests that users abuse this substance for its dissociative effects. Literature and case reports indicate that the clinical presentation of 2-fluorodeschloroketamine intoxication is similar to that from other arylcyclohexylamines, such as PCP (schedule II) and ketamine (schedule III), and ranges from hallucinogenic-like adverse effects to death. In nonfatal intoxications, adverse effects include acute neurological symptoms resulting in cognitive and behavioral abnormalities, as well as cardiovascular symptoms, such as hypertension and tachycardia. Literature also indicates that 2-fluorodeschloroketamine has been used as a “date rape” drug and was detected among 11 cases of drug-facilitated sexual assault internationally.

In addition, according to findings by the DEA Toxicology Testing Program (DEA TOX),¹⁶ 2-fluorodeschloroketamine has been positively identified in a total of three overdose cases, two of which were fatal, and included both male (n = 2, both age 31) and female (n = 1, age 36) users. While toxicological and forensic case reports are available in medical and scientific literature and provide evidence of 2-fluorodeschloroketamine abuse, commonly used drug screening methods may not yet be able to identify 2-fluorodeschloroketamine. Consequently, additional emergency room admissions and fatalities involving 2-fluorodeschloroketamine have likely occurred without report.

¹⁶ DEA TOX is a surveillance program that aims to detect novel psychoactive substances (NPS) in fatal and nonfatal overdose cases within the United States. From these cases, biological samples, as well as drug paraphernalia (on limited occasions), are submitted for analysis by hospitals, medical examiners, poison centers, and law enforcement nationwide. DEA TOX data include confirmed detections of NPS through the data query date, December 16, 2025.

Lastly, U.S. law enforcement data indicate that 2-fluorodeschloroketamine has been encountered since 2018 and that this substance is easily and affordably obtainable online and on the illicit market. Consequently, individuals may be unknowingly exposed to this substance despite their intentions to consume other drugs, such as bucinnazine, ketamine, or methoxphenidine. Analytical testing of seized samples indicates single and combinations of substances, suggesting that 2-fluorodeschloroketamine may be frequently used as an adulterant or ketamine substitute. The unpredictable levels of adulterant or drug purity across samples may pose significant harm to public health.

Finding of Necessity of Schedule I Placement To Avoid Imminent Hazard to Public Safety

In accordance with 21 U.S.C. 811(h)(3), based on the available data and information summarized above, the uncontrolled manufacture, distribution, reverse distribution, importation, exportation, conduct of research and chemical analysis, possession, and abuse of 2-fluorodeschloroketamine pose an imminent hazard to public safety. DEA is not aware of any currently accepted medical uses for 2-fluorodeschloroketamine in treatment in the United States. A substance meeting the statutory requirements for temporary scheduling, found in 21 U.S.C. 811(h)(1), may only be placed in schedule I. Substances in schedule I are those that have a high potential for abuse, no currently accepted medical use in treatment in the United States, and a lack of accepted safety for use under medical supervision. Available data and information for 2-fluorodeschloroketamine indicate that this substance has a high potential for abuse, no currently accepted medical use in treatment in the United States, and a lack of accepted safety for use under medical supervision.

As required by 21 U.S.C. 811(h)(4), in the November 1 DEA letter, the then-Administrator notified the then-Assistant Secretary of DEA's intention to temporarily place 2-fluorodeschloroketamine in schedule I. HHS had no objection to the temporary placement of this substance in schedule I. However, due to the change in HHS's leadership after the November 8 HHS letter, DEA requested an updated response from HHS in the May 28 DEA letter. In the June 11 HHS letter, the Acting Assistant Secretary reaffirmed that HHS had no objection to the temporary placement of 2-fluorodeschloroketamine in schedule I.

Conclusion

This notice of intent provides the 30-day notice pursuant to 21 U.S.C. 811(h)(1) of DEA's intent to issue a temporary scheduling order. In accordance with 21 U.S.C. 811(h)(1) and (3), the Administrator considered available data and information, herein set forth the grounds for his determination that it is necessary to temporarily schedule 2-fluorodeschloroketamine in schedule I of the CSA, and finds that placement of this substance in schedule I of the CSA is necessary in order to avoid an imminent hazard to the public's safety.

The temporary placement of 2-fluorodeschloroketamine in schedule I of the CSA will take effect pursuant to a temporary scheduling order, which will not be issued before February 19, 2026. Because the Administrator hereby finds that this temporary scheduling order is necessary to avoid an imminent hazard to public safety, it will take effect on the date the order is published in the Federal Register and remain in effect for two years, with a possible extension of an additional year, pending completion of the regular (permanent) scheduling process.¹⁷ The Administrator intends to issue a temporary scheduling order as soon as possible after the expiration of 30 days from the date of publication of this document. Upon publication of the temporary order, 2-fluorodeschloroketamine will then be subject to the CSA's schedule I regulatory controls and administrative, civil, and criminal sanctions applicable to the manufacture, distribution, reverse distribution, importation, exportation, research, conduct of instructional activities and chemical analysis, and possession.

¹⁷ 21 U.S.C.811(h)(1) and (2).

The CSA sets forth specific criteria for scheduling drugs or other substances. Regular scheduling actions in accordance with 21 U.S.C. 811(a) are subject to formal rulemaking procedures “on the record after opportunity for a hearing” conducted pursuant to the provisions of 5 U.S.C. 556 and 557.¹⁸ The regular scheduling process of formal rulemaking affords interested parties appropriate process and the government any additional relevant information needed to make a determination. Final decisions that conclude the regular scheduling process of formal rulemaking are subject to judicial review.¹⁹ Temporary scheduling orders are not subject to judicial review.²⁰

¹⁸ 21 U.S.C. 811.

¹⁹ 21 U.S.C. 877.

²⁰ 21 U.S.C. 811(h)(6).

Regulatory Analyses

The CSA provides for expedited temporary scheduling actions where necessary to avoid an imminent hazard to public safety. Under 21 U.S.C. 811(h)(1), the Administrator (as delegated by the Attorney General) may, by order, temporarily schedule substances in schedule I. Such orders may not be issued before the expiration of 30 days from: (1) the publication of a notice in the Federal Register of the intent to issue such order and the grounds upon which such order is to be issued, and (2) the date that notice of the proposed temporary scheduling order is transmitted to the Assistant Secretary of HHS, as delegated by the Secretary of HHS.²¹

²¹ 21 U.S.C. 811(h)(1).

Inasmuch as section 811(h) directs that temporary scheduling actions be issued by order and sets forth the procedures by which such orders are to be issued, including the requirement of a publication in the Federal Register of a notice of intent, the notice-and-comment requirements of the Administrative Procedure Act (APA), 5 U.S.C. 553, do not apply to this notice of intent. The APA expressly differentiates between an order and a rule, as it defines an “order” to mean a “final disposition, whether affirmative, negative, injunctive, or declaratory in form, of an agency in a matter other than rule making.” ²² This contrasts with permanent scheduling actions, which are subject to formal rulemaking procedures done “on the record after opportunity for a hearing,” and final decisions that conclude the scheduling process and are subject to judicial review.²³ The specific language chosen by Congress indicates its intent that DEA issue orders instead of proceeding by rulemaking when temporarily scheduling substances. Given that Congress specifically requires the Administrator (as delegated by the Attorney General) to follow rulemaking procedures for other kinds of scheduling actions,²⁴ it is noteworthy that, in section 811(h)(1), Congress authorized the issuance of temporary scheduling actions by order rather than by rule.

²² 5 U.S.C. 551(6) (emphasis added).

²³ 21 U.S.C. 811(a) and 877.

²⁴ See 21 U.S.C. 811(a).

Even assuming that this notice of intent is subject to the notice-and-comment requirements of the APA, the Administrator finds that there is good cause to forgo the those requirements pursuant to 5 U.S.C. 553(b)(B), as any further delays in the process for issuing temporary scheduling orders would be impracticable and contrary to the public interest given the manifest urgency to avoid an imminent hazard to public safety.

Although DEA believes this notice of intent to issue a temporary scheduling order is not subject to the notice-and-comment requirements of the APA, DEA notes that in accordance with 21 U.S.C. 811(h)(4), the Administrator took into consideration comments submitted by the Acting Assistant Secretary in response to the notice that DEA transmitted to the Acting Assistant Secretary pursuant to such subsection.

Further, DEA believes that this temporary scheduling action is not a “rule” as defined by 5 U.S.C. 601(2), and, accordingly, is not subject to the requirements of the Regulatory Flexibility Act (RFA). The requirements for the preparation of an initial regulatory flexibility analysis in 5 U.S.C. 603(a) are not applicable where, as here, DEA is not required by the APA or any other law to publish a general notice of proposed rulemaking. As discussed above, DEA is issuing this notice of intent pursuant to DEA's authority to issue a temporary scheduling order.²⁵ Therefore, in this instance, since DEA believes this temporary scheduling action is not a “rule,” it is not subject to the requirements of the RFA when issuing this temporary action.

²⁵ 21 U.S.C. 811(h)(1).

In accordance with the principles of Executive Orders (E.O.) 12866 and 13563, this action is not a significant regulatory action. E.O. 12866 directs agencies to assess all costs and benefits of available regulatory alternatives and, if regulation is necessary, to select regulatory approaches that maximize net benefits (including potential economic, environmental, public health, and safety effects; distributive impacts; and equity). E.O. 13563 is supplemental to and reaffirms the principles, structures, and definitions governing regulatory review as established in E.O. 12866. Because this is not a rulemaking action, this is not a significant regulatory action as defined in Section 3(f) of E.O. 12866. In addition, DEA scheduling actions are not subject to either E.O. 14192, Unleashing Prosperity Through Deregulation, or E.O. 14294, Fighting Overcriminalization in Federal Regulations.

This action will not have substantial direct effects on the states, on the relationship between the national government and the states, or on the distribution of power and responsibilities among the various levels of government. Therefore, in accordance with E.O. 13132, it is determined that this action does not have sufficient federalism implications to warrant the preparation of a Federalism Assessment.

List of Subjects in 21 CFR Part 1308

Administrative practice and procedure, Drug traffic control, Reporting and recordkeeping requirements.

For the reasons set out above, DEA proposes to amend 21 CFR part 1308 as follows:

PART 1308—SCHEDULES OF CONTROLLED SUBSTANCES

1. The authority citation for part 1308 continues to read as follows:

Authority: 21 U.S.C. 811, 812, 871(b), 956(b), unless otherwise noted.

2. In § 1308.11: Add paragraph (h)(77) to read as follows:

§ 1308.11 Schedule I

* * * * *

(h) * * *

* * * * * * *
(86) 2-Fluorodeschloroketamine, its salts, isomers, and salts of isomers (other name: 2-(2-fluorophenyl)-2-(methylamino)cyclohexan-1-one; also known as 2-FDCK) | 7284
* * * * * * *

* * * * *

Signing Authority

This document of the Drug Enforcement Administration was signed on January 13, 2026, by Administrator Terrance C. Cole. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Heather Achbach,
Federal Register Liaison Officer, Drug Enforcement Administration.

[FR Doc. 2026-00954 Filed 1-16-26; 8:45 am]

BILLING CODE 4410-09-P